DEPARTMENT OF COMMERCE

Submission for OMB Review; Comment Request

The Department of Commerce (DOC) will submit to the Office of Management and Budget (OMB) for clearance the following proposal for collection of information under the provisions of the Paperwork Reduction Act (44 U.S.C. Chapter 35).

Agency: Bureau of Economic Analysis (BEA).

Title: Survey of Foreign Ocean Carriers' Expenses in the United States.

OMB Control Number: 0608-0012.

Form Number(s): BE-29.

Type of Request: Extension of a currently approved collection.

Burden Hours: 330.

Number of Respondents: 110.

Average Hours per Response: 3 hours.

Needs and Uses: The BEA is responsible for the compilation of the U.S. international transactions accounts (ITAs), which it publishes quarterly in news releases, on its Web site, and in its monthly journal, the Survey of Current Business. These accounts provide a statistical summary of all U.S. international transactions and, as such, are one of the major statistical products of BEA. In addition, they provide input into other U.S. economic measures and accounts, contributing particularly to the National Income and Product Accounts. The ITAs are used extensively by both government and private organizations for national and international economic policy formulation and for analytical purposes. The information collected in this survey is used to develop the “transportation” portion of the ITAs. Without this information, an integral component of the ITAs would be omitted. No other Government agency collects comprehensive annual data on foreign ocean carriers' expenses in the United States.

The survey requests information from U.S. agents of foreign ocean carriers operating in the United States. The information is collected on an annual basis from U.S. agents that handle 40 or more port calls in the reporting period by foreign ocean vessels, and covered expenses for all foreign ocean vessels handled by the U.S. agent were $250,000 or more. A report is not required if the total number of port calls by foreign ocean vessels handled by the U.S. agent in the reporting period is fewer than 40, or total annual covered expenses for all foreign ocean vessels handled by the U.S. agent are below $250,000.

Affected Public: Business or other for-profit organizations.

Frequency: Annually.

Respondent's Obligation: Mandatory.

Legal Authority: The International Investment and Trade in Services Survey Act, 22 U.S.C. 3101-3108, as amended.

OMB Desk Officer: Paul Bugg, (202) 395-3093.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Paul Bugg, OMB Desk Officer, via e-mail at pbugg@omb.eop.gov, or by FAX at 202-395-7245.

Dated: September 8, 2009.
Gwellnar Banks,
Management Analyst, Office of Chief Information Officer.

[FR Doc. E9-21972 Filed 9-11-09; 8:45 am]

BILLING CODE 3510-06-P